DEPARTMENT OF ENERGY

Western Area Power Administration

Request for Interest for Purchase of Renewable Energy Products

AGENCY: Western Area Power Administration, DOE.

ACTION: Notice of Availability of Request for Interest for Purchase of Renewable Energy Products.

SUMMARY: The Western Area Power Administration, DOE (Western), a Federal power marketing agency of the U.S. Department of Energy, announces the availability of a Request for Interest (RFI) for the Purchase of Renewable Energy Products. Western is seeking interest from any supplier regarding the long-term purchase (10 to 15 years) of renewable energy with or without Renewable Energy Certificates (RECs). The energy may be delivered to the Upper Great Plains Region, the Rocky Mountain Region's Loveland Area Projects, the Colorado River Storage Project, and/or the Desert Southwest Region. All available points of delivery are located within the Western Interconnection.

DATES: Responses to the RFI must be received by Western on or before December 18, 2008.

FOR FURTHER INFORMATION CONTACT: For further information or to obtain a copy of the RFI, please contact Mr. Tim Vigil, Western Area Power Administration, Colorado River Storage Project, Energy Management and Marketing Office, 1800 South Rio Grande Avenue, Montrose, CO 81401, (970) 240-6218, fax (970) 240-6295, e-mail renewable-rfi@wapa.gov. The RFI is also available on Western's Web site at http://www.wapa.gov.

SUPPLEMENTARY INFORMATION: Western is seeking interest from any supplier regarding the long-term purchase of renewable energy to supplement any one or more of, or possibly combinations of, four regions. These regions span a large area, including Arizona, New Mexico, Utah, Colorado, and Wyoming, but are connected by contiguous transmission lines. Western would prefer renewable energy with RECs, but will entertain offsets on price for renewable energy without RECs. Delivery points and approximate amounts of energy desired for each region are listed in the RFI. Currently, Western is only requesting information concerning renewable energy priced at or below $100 per MWh.

Dated: November 21, 2008.
Timothy J. Meeks,
Administrator.

[FR Doc. E8-28712 Filed 12-3-08; 8:45 am]

BILLING CODE 6450-01-P